DEPARTMENT OF JUSTICE

Notice of Lodging of Settlement Agreement Under the Comprehensive Environmental Response, Compensation and Liability Act, Clean Air Act, Resource Conservation and Recovery Act, and Chapter 11 of the United States Bankruptcy Code

Notice is hereby given that on September 17, 2003, a proposed Settlement Agreement was lodged with the United States Bankruptcy Court for the Southern District of New York in In re Bethlehem Steel Corporation, et al., Chapter 11 Case Nos. 01-15288 (BRL) through 01-15302, 01-15308. The proposed Settlement Agreement would resolve civil claims alleged in two proofs of claim filed by the United States against Bethlehem Steel Corporation and its subsidiaries and affiliates (collectively, Debtors) in the Bankruptcy cases: A September 25, 2002, Proof of Claim filed on behalf of the U.S. Army, U.S. Navy, U.S. Air Force, and General Service Administration (GSA) relating to the Consent Decree judgment entered in Duffy Brothers Construction Co., Inc. v. American Airlines, Inc. (D. Mass. 1997); and a September 30, 2002, Proof of Claim filed on behalf of the United States Environmental Protection Agency (EPA), the Department of Commerce (on behalf of the National Oceanic and Atmospheric Administration (NOAA)), and the Department of Agriculture (on behalf of the USDA Forest Service), asserting various liabilities against Debtors under Comprehensive Environmental Response, Compensation, and Liability Act (CERCLA), the Clean Air Act, and the Resource Conservation and Recovery Act (RCRA).

Under the proposed settlement, the United States would resolve the following claims: Claims of the United States pertaining to Bethlehem Steel's liability under CERCLA relating to six EPA CERCLA sites in Regions 3,5,7, and 9 and one USDA Forest Service CERCLA site in Montana; a claim of the United States filed on behalf of the U.S. Army, U.S. Navy, U.S. Air Force, and GSA for Bethelehem's liability relating to a CERCLA consent decree; and claims of the United States on behalf of EPA asserting liability to Bethlehem Steel for civil penalties under the Clean Air Act and the RCRA.

The United States would receive the following claims in the Bankruptcy under the proposed Settlement Agreement: (1) Allowed secured claims totaling $200,000 and allowed general unsecured claims totaling $2,492,163.10 for Debtors' liability under CERCLA for response costs incurred and to be incurred by EPA in connection with the following Superfund sites: the Breslube-Penn Superfund Site in Coraopolis, Pennsylvania; the Spectron Superfund Site in Elkton, Maryland; the Conservation Chemical Company of Illinois, Inc. Site in Gary, Indiana; the PCB Treatment, Inc. Superfund Site, including one facility in Kansas City, Kansas and another facility in Kansas City, Missouri; the Operating Industries, Inc. Superfund Site in Monterey Park, California; and the Waste Disposal, Inc. Superfund Site in Santa Fe Springs, California; (2) an allowed secured claim of $125,000 and an allowed general unsecured claim of $250,000 for Debtors; liability under CERCLA for response costs incurred and to be incurred by the USDA Forest Service in connection with the Elkhorn Mine and Mill Site near Wise River, Montana; (3) an allowed general unsecured claim for $30,000 for Debtors' liability for civil penalties for prepetition RCRA violations at the Bethlehem Lukens Plate Division in Coatesville, Pennsylvania; (4) an allowed administrative expense claim for $165,000 and an allowed general unsecured claim for $500,000 for Debtors' liability for civil penalties for prepetition and postpetition violations of the Clean Air Act, 42 U.S.C. 7401 et seq. (CAA), and regulations promulgated thereunder, at Bethlehem's Burns Harbor facility in Porter County, Indiana; and (5) an allowed general unsecured claim for $137,191.11 resolving Debtors' liability relating to the Consent Decree judgment in Duffy Brothers Construction Co., Inc. v. American Airlines, Inc. (D. Mass 1997).

The Department of Justice will receive comments relating to the Settlement Agreement for a period of twenty (20) days from the date of this publication. Comments should be addressed to the Assistant Attorney General, Environment and Natural Resources Division, P.O. Box 7611, U.S. Department of Justice, Washington, DC 20044, and should refer to In re Bethlehem Steel Corporation, et al. (Case Nos. 01-15288 (BRL) through 01-15308)(D.J. Ref. No. 90-11-3-07678). Commenters may request an opportunity for a public meeting in the affected area, in accordance with Section 7003(d) of RCRA 42 U.S.C. 6973(d).

The Settlement Agreement may be examined at the Office of the United States Attorney for the Southern District of New York, 33 Whitehall Street (8th Floor) New York, New York 10004, and at the United States Environmental Protection Agency, Ariel Rios Building, 1200 Pennsylvania Avenue, NW., Washington, DC 20460. During the public comment period, the Agreement may also be examined on the following Department of Justice Web site, http://www.usdoj.gov/enrd/open.html. A copy of the Settlement Agreement may also be obtained by mail from the Consent Decree Library, P.O. Box 7611, U.S. Department of Justice, Washington, DC 20044, or by faxing or e-mailing a request to Tonia Fleetwood (tonia.fleetwood@usdoj.gov), fax number (202) 514-0097, phone confirmation number (202) 514-1547. In requesting a copy from the Consent Decree Library, please enclose a check in the amount of $8.00 (25 cents per page reproduction cost) payable to the United States Treasury.

Benjamin Fisherow,
Deputy Chief, Environmental Enforcement Section, Environment and Natural Resources Division.

[FR Doc. 03-24190 Filed 9-18-03; 9:46 am]

BILLING CODE 4410-15-M